FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Cargo Care, Inc., 1300C South Finley Road, Suite 104, Lombard, IL 60148. Officers: Thomas S. Fornell, President (Qualifying Individual), Olaf Sodemann, Vice President

Deltamax Freight System Corporation, 10834 S. La Cienega Blvd., Inglewood, CA 90304. Officers: Jack Y.M. Kao, President/Managing Director (Qualifying Individual), Yoke Liu, Vice President

S&T Shipping, 810 Kangaroo Ct., Deltona, FL 32738. Timothy A. Voit, Sole Proprietor

Non-Vessel Operating Common Carrier and Ocean Freight Forwarder—Transportation Intermediary Applicants:

Venture Transport, Inc., 314 North Post Oak Lane, Houston, TX 77024. Officers: Richard S. Higgins, Vice President (Qualifying Individual), Ronnie Murphy, President

Maraly International Corp., 7206 N.W. 84th Avenue, Miami, FL 33166. Officer: Robert Esquivel, President (Qualifying Individual)

Magellan Maritime Ltd., 391 Grand Avenue, Englewood, NJ 07631. Officers: Michael Rubin, President (Qualifying Individual), Mona Rubin, Vice President

Pum Yank Logistics, Inc., 425 Victoria Terrace, Ridgefield, NJ 07657. Officers: Young Joo Shin, President (Qualifying Individual), Hae Sook Lee, Chairman

Ocean Freight Forwarder—Ocean Transportation Intermediary Applicants:

Malvazia Co. d/b/a Advanced Cargo, 2535 Seaboard Coastline Drive, Savannah, GA 31401. Officers: Patrice A. Kiley, Secretary (Qualifying Individual), Stefanos Vassilakos, President

Dated: May 25, 2001.
Bryant L. VanBrakle,
Secretary.

[FR Doc. 01-13701 Filed 5-31-01; 8:45 am]

BILLING CODE 6730-01-P